DEPARTMENT OF ENERGY

Federal Energy Regulatory Commission

Combined Notice of Filings

Take notice that the Commission has received the following Natural Gas Pipeline Rate and Refund Report filings:

Filings Instituting Proceedings

Docket Numbers: RP15-163-000.

Applicants: Cimarron River Pipeline, LLC.

Description: § 4(d) rate filing per 154.204: Negotiated Rates 2014-06-19 to be effective 12/10/2014.

Filed Date: 11/10/14.

Accession Number: 20141110-5115.

Comments Due: 5 p.m. ET 11/24/14.

Docket Numbers: RP15-164-000.

Applicants: Venice Gathering System, L.L.C.

Description: Compliance filing per 154.203: Compliance Filing 111014 to be effective 12/31/9998.

Filed Date: 11/10/14.

Accession Number: 20141110-5250.

Comments Due: 5 p.m. ET 11/24/14.

Docket Numbers: RP15-165-000.

Applicants: Ozark Gas Transmission, L.L.C.

Description: § 4(d) rate filing per 154.204: Negotiated Rate Entergy K820175 to be effective 1/1/2015.

Filed Date: 11/12/14.

Accession Number: 20141112-5012.

Comments Due: 5 p.m. ET 11/24/14.

Docket Numbers: RP15-166-000.

Applicants: Gas Transmission Northwest LLC.

Description: § 4(d) rate filing per 154.403(d)(2): Annual Fuel Filing 2014 to be effective 1/1/2015.

Filed Date: 11/12/14.

Accession Number: 20141112-5099.

Comments Due: 5 p.m. ET 11/24/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 12, 2014.
Nathaniel J. Davis, Sr.,
Deputy Secretary.

[FR Doc. 2014-27948 Filed 11-25-14; 8:45 am]

BILLING CODE 6717-01-P